DEPARTMENT OF AGRICULTURE

National Agricultural Statistics Service

Notice of Intent To Seek Approval To Revise and Extend an Information Collection

AGENCY: National Agricultural Statistics Service, USDA.

ACTION: Notice and request for comments.

SUMMARY: In accordance with the Paperwork Reduction Act of 1995 (Pub. L. 104-13) and Office of Management and Budget regulations at 5 CFR part 1320 (60 FR 44978, August 29, 1995), this notice announces the intention of the National Agricultural Statistics Service (NASS) to seek approval to revise and extend a currently approved information collection, the Agricultural Resources Management Survey and Chemical Use Surveys.

DATES: Comments on this notice must be received by July 11, 2005 to be assured of consideration.

ADDRESSES: Comments may be mailed to Ginny McBride, NASS Clearance Officer, U.S. Department of Agriculture, Room 5336 South Building, 1400 Independence Avenue SW., Washington, DC 20250 or sent electronically to gmcbride@nass.usda.gov., or faxed to (202) 720-6396.

FOR FURTHER INFORMATION CONTACT: Carol House, Associate Administrator, National Agricultural Statistics Service, U.S. Department of Agriculture, (202) 720-4333.

SUPPLEMENTARY INFORMATION: Title: Agricultural Resources Management Survey and Chemical Use Surveys.

OMB Control Number: 0535-0218.

Expiration Date of Approval: August 31, 2007.

Type of Request: Intent to revise and extend a currently approved information collection.

Abstract: One of the primary objectives of the National Agricultural Statistics Service is to provide high quality and timely estimates about the nation's food supply and environment. In the Agricultural Resources Management Survey, Chemical Use Survey, and Post-harvest Chemical Use Survey, data are collected regarding chemical uses on field crops, fruit, and vegetable crops; the types and amounts of pesticides used on selected commodities after harvest and before being shipped to the consumer; and production expenses and income sources for farm operations. Information from these data collection efforts is used extensively by government agencies in planning, farm policy analysis, scientific research, and program administration.

Data collection will be extended in 2005 to enable side-by-side comparison of the characteristics of traditional and organic dairy operations. The intent is to rotate the commodity of interest in future years to collect a comparable set of objective information on the economic, structural, and production characteristics of organic vs conventional operations. Organic soybeans will be targeted in 2006.

NASS intends to request approval to continue a study integrating the Agricultural Resources Management Survey (ARMS) with the Conservation Effects Assessment Program (CEAP) Survey, OMB Control No. 0535-0245. An integrated questionnaire will be used to collect data for the two surveys sponsored by USDA's Economic Research Service and National Agricultural Statistics Service, and National Resources Conservation Service, respectively. For 2005 surveys, four States will be involved in the study: Illinois, Indiana, Iowa, and Nebraska. The ARMS list samples for corn will be reduced allowing for replacement by CEAP survey samples planted with corn in 2005. The resulting overlap between the two surveys provides multiple-year data to study combining ARMS agricultural practices and farm cost and returns data with CEAP conservation effects data. Multiple year studies add value by directly linking environmental data with farm production practice, resource, economic, and farm household characteristics. CEAP-ARMS (1) serves an expanded set of interests across a broader set of multiple USDA users, (2) reduces respondent burden by eliminating survey overlap, and (3) enhances USDA's ability to evaluate the true impacts of conservation programs by isolating program incentive impacts from impacts due to other farm programs and to non-conservation program factors, such as farm household and financial constraints, technology changes, market conditions, farm size, and weather conditions (Amber Waves, September 2004). CEAP-ARMS also allows USDA to maximize the use of its data across USDA programs, and thereby, enhance its ability to design and implement programs consistent with USDA resource and conservation policy goals. CEAP-ARMS will help address such questions as the differences in characteristics between conservation program participants and non-participants; how producer-based environmental stewardship affects program participation; what is its impact on program costs and benefits; and how and to what extent should incentive structures differ across types of participants, farm size, and environmental and conservation policy goals. Integration of the CEAP-ARMS surveys will be further evaluated by obtaining the unique identifier of the Common Land Unit as identified by the Farm Services Agency in one State. This additional effort to link environmental data with practice, economic, and household characteristics has the potential to reduce collection burden by enabling the use of existing biophysical information.

These data will be collected under the authority of 7 U.S.C. 2204(a). Individually identifiable data collected under this authority are governed by Section 1770 of the Food Security Act of 1985, 7 U.S.C. 2276, which requires USDA to afford strict confidentiality to non-aggregated data provided by respondents.

Estimate of Burden: Public reporting burden for this collection of information is estimated to average 43 minutes.

Respondents: Farms, Packers, Shippers, and Warehouses.

Estimated Number of Respondents: 81,000.

Estimated Total Annual Burden on Respondents: 58,000 hours.

Copies of this information collection and related instructions can be obtained without charge from Ginny McBride, NASS Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including use of appropriate automated, electronic, mechanical, or other technological collection techniques or other forms of information technology.

All responses to this notice will become a matter of public record and be summarized in the request for OMB approval.

Signed at Washington, DC, March 24, 2005.
Carol House,
Associate Administrator.

[FR Doc. 05-8983 Filed 5-2-05; 2:35 pm]

BILLING CODE 3410-20-P